DEPARTMENT OF AGRICULTURE

Food Safety and Inspection Service

[Docket No. 02-035N]

Codex Alimentarius: Meeting of the Codex Committee on Food Import and Export Inspection and Certification Systems

AGENCY: Food Safety and Inspection Service, USDA.

ACTION: Notice of public meetings, request for comments.

SUMMARY: The Office of the Under Secretary for Food Safety, United States Department of Agriculture, and the U.S. Department of Health and Human Services, Food and Drug Administration (FDA) are sponsoring two public meetings. The first meeting will be held on October 22, 2002, 1 p.m. to 4 p.m. to review agenda items and receive comments in preparation for developing draft U.S. positions, and the second will be held on November 20, 2002, 1 p.m. to 3 p.m. to provide information and receive public comments on the U.S. draft positions for agenda items that will be discussed at the Codex Committee on Food Import and Export Inspection and Certification Systems (CCFICS) which will be held in Adelaide, Australia, December 2-6, 2002. The Under Secretary and FDA recognize the importance of providing interested parties with information on the Eleventh Session of CCFICS and to address items on the Agenda.

DATES: The public meetings are scheduled for Tuesday, October 22, 2002 from 1 p.m. to 4 p.m. and Wednesday, November 20, 2002 from 1 p.m. to 3 p.m.

ADDRESSES: The public meetings will be held in the Auditorium of the Harvey E. Wiley Federal Building, 5100 Paint Branch Pkwy, College Park, MD (green line College Park Metro stop).

To receive copies of the documents referenced in the notice contact the FSIS Docket Clerk, U.S. Department of Agriculture, Food Safety and Inspection Service, Room 102, Cotton Annex, 300 12th Street, SW., Washington, DC 20250-3700. The documents will also become accessible via the World Wide Web at the following address: http://codexalimentarius.net/current.asp.

If you have comments, please send an original and two copies to the FSIS Docket Clerk and reference Docket # 02-035N. All comments submitted will be available for public inspection in the Docket Clerk's Office, between 8:30 a.m. and 4:30 p.m., Monday through Friday.

FOR FURTHER INFORMATION CONTACT: Dr. William James, Acting Director, U.S. Codex Office, Food Safety and Inspection Service, Room 4861, South Building, 1400 Independence Avenue, SW., Washington, DC 20250, Phone: (202) 205-7760, Fax: (202) 720-3157.

SUPPLEMENTARY INFORMATION:

Background

The Codex Alimentarius Commission was established in 1962 by two United Nations organizations, the Food and Agriculture Organization (FAO) and the World Health Organization (WHO). Codex is the major international organization for encouraging fair international trade in food and protecting the health and economic interests of consumers. Through adoption of food standards, codes of practice, and other guidelines developed by its committees, and by promoting their adoption and implementation by governments, Codex seeks to ensure that the world's food supply is sound, wholesome, free from adulteration, and correctly labeled. In the United States, USDA, FDA, and the Environmental Protection Agency manage and carry out U.S. Codex.

The Codex Committee on Food Import and Export Inspection and Certification Systems was established to develop principles and guidelines for food import and export inspection and certification systems to facilitate trade through harmonization and to supply safe and quality foods to consumers. Included in the charge to the Committee is application of measures by competent authorities to provide assurances that foods comply with essential requirements. Recognition of quality assurance systems through the development of guidelines will help ensure that foods conform to the essential requirements. The Government of Australia is hosting this activity.

Issues To Be Discussed at the Public Meetings

The following issues will be discussed during the public meetings:

• Proposed Draft Guidelines on the Judgement of Equivalence of Sanitary Measures Associated with Food Inspection and Certification Systems.

• Proposed Draft Guidelines for the Exchange of Information of Food Control Emergency Situations.

• Proposed Draft Guidelines for the Utilization and Promotion of Quality Assurance Systems to meet Requirements in Relation to Food.

• Traceability in the Context of Food Import and Export Inspection and Certification Systems.

Additional Public Notification

Public awareness of all segments of rulemaking and policy development is important. Consequently, in an effort to better ensure that minorities, women, and persons with disabilities are aware of this notice, FSIS will announce it and make copies of this Federal Register publication available through the FSIS Constituent Update. FSIS provides a weekly Constituent Update, which is communicated via Listserv, a free e-mail subscription service. In addition, the update is available on-line through the FSIS web page located at http://www.fsis.usda.gov. The update is used to provide information regarding FSIS policies, procedures, regulations, Federal Register notices, FSIS public meetings, recalls, and any other types of information that could affect or would be of interest to our constituents/stakeholders. The constituent Listserv consists of industry, trade, and farm groups, consumer interest groups, allied health professionals, scientific professionals, and other individuals that have requested to be included. Through the Listserv and web page, FSIS is able to provide information to a much broader, more diverse audience.

For more information contact the Congressional and Public Affairs Office, at (202) 720-9113. To be added to the free e-mail subscription service (Listserv) go to the “Constituent Update” page on the FSIS web site at http://www.fsis.usda.gov/oa/update/update.htm. Click on the “Subscribe to the Constituent Update Listserv” link, then fill out and submit the form.

Done at Washington, DC on September 26, 2002.
Edward Scarbrough,
U.S. Manager for Codex Alimentarius.

[FR Doc. 02-24978 Filed 10-1-02; 8:45 am]

BILLING CODE 3410-DM-P